DEPARTMENT OF COMMERCE

International Trade Administration

[A-583-008]

Certain Circular Welded Carbon Steel Pipes and Tubes From Taiwan: Final Results of Antidumping Duty Administrative Review; 2011-2012

AGENCY: Enforcement and Compliance, formerly Import Administration, International Trade Administration, Department of Commerce.

SUMMARY: On June 7, 2013, the Department of Commerce (the Department) published the preliminary results of the administrative review of the antidumping duty order on certain circular welded carbon steel pipes and tubes from Taiwan for the period of review (POR) May 1, 2011, through April 30, 2012.¹ For these final results, we find that subject merchandise has been sold at less than normal value.

¹ See Certain Circular Welded Carbon Steel Pipes and Tubes From Taiwan: Preliminary Results of Antidumping Duty Administrative Review; 2011-2012, 78 FR 34335 (June 7, 2013) (Preliminary Results).

DATES: Effective November 29, 2013.

FOR FURTHER INFORMATION CONTACT: Steve Bezirganian or Robert James, AD/CVD Operations, Office VI, Enforcement and Compliance, International Trade Administration, U.S. Department of Commerce, 14th Street and Constitution Avenue NW., Washington DC 20230; telephone: (202) 482-1131 or (202) 482-0649, respectively.

SUPPLEMENTARY INFORMATION:

Background

On June 7, 2013, the Department published the Preliminary Results of the administrative review of the antidumping duty order on certain circular welded carbon steel pipes and tubes from Taiwan.²

² Id.

On July 22, 2013, we received a case brief from the petitioner, United States Steel Corporation. On July 29, 2013, we received a rebuttal brief from the respondent, Shin Yang Steel Co., Ltd. (Shin Yang).

As explained in the memorandum from the Assistant Secretary for Enforcement and Compliance, the Department exercised its discretion to toll deadlines for the duration of the closure of the Federal Government from October 1, through October 16, 2013.³ Therefore, all deadlines in this segment of the proceeding have been extended by 16 days. The revised deadline for the final results of this review is now November 22, 2013.

³ See Memorandum for the Record from Paul Piquado, Assistant Secretary for Enforcement and Compliance, “Deadlines Affected by the Shutdown of the Federal Government” (October 18, 2013).

Scope of the Order

The merchandise subject to the Order ⁴ is certain circular welded carbon steel pipes and tubes. For a full description of the scope of the Order, see the Issues and Decision Memorandum,⁵ which is hereby adopted by this notice. The written description is dispositive.

⁴ See Certain Circular Welded Carbon Steel Pipes and Tubes From Taiwan: Antidumping Duty Order, 49 FR 19369 (May 7, 1984) (Order).

⁵ See Memorandum from Christian Marsh, Deputy Assistant Secretary for Antidumping and Countervailing Duty Operations, to Paul Piquado, Assistant Secretary for Enforcement and Compliance, entitled “Issues and Decision Memorandum for the Antidumping Duty Administrative Review of Certain Circular Welded Carbon Steel Pipes and Tubes from Taiwan; 2011-2012,” (Issues and Decision Memorandum) dated concurrently with this notice.

Analysis of Comments Received

The comments received in the case and rebuttal briefs are addressed in the Issues and Decision Memorandum. A list of the issues raised and to which we have responded in the Issues and Decision Memorandum is attached to this notice as an Appendix. The Issues and Decision Memorandum is a public document and is on file electronically via Enforcement and Compliance's Antidumping and Countervailing Duty Centralized Electronic Service System (IA ACCESS). Access to IA ACCESS is available to registered users at http://iaacess.trade.gov and is available to all parties in the Central Records Unit, room 7046 of the main Department of Commerce building. In addition, a complete version of the Issues and Decision Memorandum can be accessed at http://enforcement.trade.gov/frn/. The signed Issues and Decision Memorandum and the electronic version of the Issues and Decision Memorandum are identical in content.

Changes from the Preliminary Results

Based on our analysis of the comments received from interested parties, we have changed our calculation methodology for Shin Yang to remove an offset to costs that is associated with non-subject merchandise.⁶

⁶ See the Issues and Decision Memorandum; see also the company-specific calculation memorandom dated concurrently with this notice, entitled “Analysis Memorandum for Shin Yang Steel Co., Ltd. for the Final Results of the Administrative Review of Certain Circular Welded Carbon Steel Pipes and Tubes from Taiwan; 2011-2012,” and the cost memorandum dated concurrently with this notice, “Cost of Production and Constructed Value Calculation Adjustments for the Final Results—Shin Yang Steel Co., Ltd.”

Final Results of the Review

As a result of this review, we determine that the following weighted-average dumping margin exists for the period May 1, 2011, through April 30, 2012:

Manufacturer/exporter | Weighted-average dumping margin (percent)
Shin Yang Steel Co., Ltd. | 8.91

Disclosure

We will disclose the calculations performed for these final results to interested parties within five days after the date of the publication of this notice pursuant to 19 CFR 351.224(b).

Assessment Rates

Pursuant to section 751(a)(2)(A) of the Tariff Act of 1930, as amended (the Act), and 19 CFR 351.212(b), the Department has determined, and U.S. Customs and Border Protection (CBP) shall assess, antidumping duties on all appropriate entries of subject merchandise in accordance with the final results of this review. The Department intends to issue assessment instructions to CBP 15 days after the date of publication of these final results of review.

Because Shin Yang's weighted-average dumping margin is not zero or de minimis (i.e., less than 0.5 percent), the Department has calculated importer-specific assessment rates. Shin Yang did not report the name of the importer of record or the entered value for its sales to the United States during the POR because the identities of the importers were not known to Shin Yang. Accordingly, we calculated importer-specific per-unit duty assessment rates by aggregating the total amount of dumping calculated for the examined sales of each customer and dividing each of these amounts by the total quantity (i.e., weight) associated with those sales. To determine whether these importer-specific per-unit assessment rates are de minimis, in accordance with the requirement set forth in 19 CFR 351.106(c)(2), we calculated importer-specific ad valorem rates based on the total amount of dumping calculated for the examined sales of each customer divided by estimated entered values for sales to the customer. Pursuant to 19 CFR 351.106(c)(2), we will instruct CBP to liquidate without regard to antidumping duties all entries for which the aforementioned importer-specific ad valorem rate is zero or de minimis; otherwise, we will instruct CBP to liquidate the appropriate entries at the aforementioned importer-specific per-unit assessment rates.

The Department clarified its “automatic assessment” regulation on May 6, 2003. This clarification will apply to entries of subject merchandise during the POR produced by Shin Yang or Yieh Phui for which these companies did not know were destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of the notice of final results of administrative review for all shipments of subject merchandise entered or withdrawn from warehouse, for consumption, on or after the date of publication as provided by section 751(a)(2)(C) of the Act: (1) the cash deposit rate for Shin Yang will be equal to the weighted-average dumping margin established in the final results of this review; (2) for merchandise exported by manufacturers or exporters not covered in this review but covered in a prior segment of the proceeding, the cash deposit rate will continue to be the company-specific rate published for the most recently completed segment of this proceeding in which that manufacturer or exporter participated; (3) if the exporter is not a firm covered in this review, a prior review, or the original investigation but the manufacturer is, the cash deposit rate will be the rate established for the most recently completed segment of this proceeding for the manufacturer of subject merchandise; and (4) the cash deposit rate for all other manufacturers or exporters (now including Yieh Phui) will continue to be 9.70 percent, the all-others rate referenced in the Order. These cash deposit requirements, when imposed, shall remain in effect until further notice.

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and the terms of an APO is a sanctionable violation.

These final results of administrative review are issued and published in accordance with sections 751(a)(1) and 777(i)(1) of the Act and 19 CFR 351.213(h).

Dated: November 22, 2013.
Paul Piquado,
Assistant Secretary for Enforcement and Compliance.

Appendix

List of Issues Discussed in the Issues and Decision Memorandum

Issue 1: Reported Cost Offset Involving Non-Subject Merchandise

Issue 2: Reported Cost Offset Involving Prepayment of Facilities

[FR Doc. 2013-28693 Filed 11-27-13; 8:45 am]

BILLING CODE 3510-DS-P